ENVIRONMENTAL PROTECTION AGENCY

[EPA-HQ-OAR-2020-0668; FRL-9520-01-OMS]

Information Collection Request Submitted to OMB for Review and Approval; Comment Request; Emission Guidelines for Commercial and Industrial Solid Waste Incineration (CISWI) Units (Renewal)

AGENCY: Environmental Protection Agency (EPA).

ACTION: Notice.

SUMMARY: The Environmental Protection Agency (EPA) has submitted an information collection request (ICR), Emission Guidelines for Commercial and Industrial Solid Waste Incineration (CISWI) Units (EPA ICR Number 2385.08, OMB Control Number 2060-0664), to the Office of Management and Budget (OMB) for review and approval in accordance with the Paperwork Reduction Act. This is a proposed extension of the ICR, which is currently approved through March 31, 2022. Public comments were previously requested, via the Federal Register, on February 8, 2021, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted either on or before February 28, 2022.

ADDRESSES: Submit your comments, referencing Docket ID Number EPA-HQ-OAR-2020-0668, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The Emission Guidelines for Commercial and Industrial Solid Waste Incineration (CISWI) units (40 CFR part 60, subpart DDDD) apply to any air quality program in either a state or a United States protectorate with one or more existing CISWI units that commenced construction either on or before April 29, 2010. In general, all emission guidelines require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 60, subpart DDDD.

Form Numbers: None.

Respondents/affected entities: Owners and operators of existing CISWI units.

Respondent's obligation to respond: Mandatory (40 CFR part 60, subpart DDDD).

Estimated number of respondents: 78 (total).

Frequency of response: Semiannual, annual.

Total estimated burden: 9,890 hours (per year). Burden is defined at 5 CFR 1320.3(b).

Total estimated cost: $12,200,000 (per year), which includes $11,000,000 in annualized capital/startup and/or operation & maintenance costs.

Changes in the Estimates: There is a decrease in burden from the most-recently approved ICR as currently identified in the OMB Inventory of Approved Burdens. This is due to several considerations. The growth rate for this industry is very low or non-existent, so there is no change in the number of respondents. The regulations have changed over the past three years; however, the amendments did not result in any changes in burden. The labor calculations for incinerators were corrected to remove one instance in the previous ICR, where labor costs for continuous parameter monitoring were double-counted. The labor calculations for incinerators were also corrected to revise the number of respondents submitting a status report, corrective action summary, and semiannual report to reflect reports submitted for 10 percent of the total number of CISWI units. The overall result is a decrease in burden hours. The costs for annual performance testing were updated from 2008 to 2020 using the CEPCI Index, resulting in an increase in O&M costs. The monitoring costs were updated from 2008 values to 2020 values using the CEPCI Index and Bureau of Labor Statistics data, resulting in an increase in monitoring costs.

Courtney Kerwin,
Director, Regulatory Support Division.

[FR Doc. 2022-01760 Filed 1-27-22; 8:45 am]

BILLING CODE 6560-50-P